DEPARTMENT OF HOMELAND SECURITY

[Docket No. DHS-2011-0018]

Protected Critical Infrastructure Information (PCII) Stakeholder Survey

AGENCY: National Protection and Programs Directorate, DHS.

ACTION: 60-day notice and request for comments; New Information Collection Request: 1670-NEW.

SUMMARY: The Department of Homeland Security (DHS), National Protection and Programs Directorate (NPPD), Office of Infrastructure Protection (IP) will submit the following Information Collection Request to the Office of Management and Budget (OMB) for review and clearance in accordance with the Paperwork Reduction Act of 1995 (Pub. L. 104-13, 44 U.S.C. Chapter 35).

DATES: Comments are encouraged and will be accepted until May 31, 2011. This process is conducted in accordance with 5 CFR 1320.1.

ADDRESSES: Written comments and questions about this Information Collection Request should be forwarded to DHS/NPPD/IP, Attn: Emily R. Hickey (Emily.hickey@dhs.gov). Written comments should reach the contact person listed no later than May 31, 2011. Comments must be identified by “DHS-2011-0018” and may be submitted by one of the following methods:

• Federal eRulemaking Portal: http://www.regulations.gov.

• E-mail: emily.hickey@dhs.gov. Include the docket number in the subject line of the message.

Instructions: All submissions received must include the words “Department of Homeland Security” and the docket number for this action. Comments received will be posted without alteration at http://www.regulations.gov, including any personal information provided.

SUPPLEMENTARY INFORMATION: The PCII Program was created by Congress under the Critical Infrastructure Information Act of 2002, (Sections 211-215, Title II, Subtitle B of the Homeland Security Act of 2002, Pub. L. 107-296 (CII Act) to encourage voluntary information sharing by owners and operators of critical infrastructure and protected systems. The PCII Program is implemented by 6 CFR part 29, Procedures for Handling Critical Infrastructure Information; Final Rule (the Regulation), which was issued in 2006. PCII refers to validated and marked critical infrastructure information not customarily in the public domain and related to the security of critical infrastructure or protected systems, which is voluntarily submitted to DHS for homeland security purposes. The PCII Program offers protection from public disclosure through the Freedom of Information Act, state and local sunshine laws, and civil litigation. The PCII Program is administered by IP's Infrastructure Information Collection Division (IICD).

The PCII Program helps government analysts, emergency responders, and other homeland security professionals access data about facilities and systems on which the Nation depends. The PCII Program is responsible for ensuring compliance with the regulation's uniform procedures for the handling, use, dissemination, and safeguarding of PCII. In this capacity, the PCII Program oversees a community of stakeholders, including submitters of CII, authorized users of PCII and accredited Federal, State and local entities with homeland security duties. This survey is designed to gather information from PCII Officers that can be used to improve these relationships and to maximize the value that the PCII Program is offering to its Federal, State, and local government users. Both the CII Act of 2002 and its implementing regulations stress the voluntary nature of the PCII Program, so collecting information that will assist in making the PCII Program attractive to its stakeholders will allow the PCII Program to better accomplish the statute's stated goals.

The data collected in this survey will be used by the PCII Program to improve relationships with stakeholders and maximize the value of the program. The survey data collected is for internal PCII Program and IP use only. The PCII Program will use the results of the Stakeholder Survey to determine levels of satisfaction with the PCII Program and identify areas that require additional communication, identify areas for improvement with the PCII Management System (PCIIMS), and help determine the future direction of the Program.

The survey is administered using a web-based survey tool, Vovici Enterprise Feedback Management (EFM). Automating the PCII Stakeholder Survey reduces the respondent burden of responding to a paper survey or a telephone interview. The staff burden of manually administering a survey and accurately collecting data is also reduced. Automation also captures participants' typed comments, eliminating time-consuming transcription and manual inaccuracies.

The PCII Stakeholder Survey does not collect personally identifiable information. The survey instrument states that the survey is voluntary and the information will be kept private or anonymous to the extent allowable by law. Data collected is for internal PCII Program and IP use only.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate, Office of Infrastructure Protection.

Title: Protected Critical Infrastructure Information (PCII) Stakeholder Survey.

OMB Number: 1670-NEW.

Frequency: Annually.

Affected Public: Federal, State, local, tribal or territorial government.

Number of Respondents: 100 respondents.

Estimated Time Per Respondent: .1333 hours.

Total Burden Hours: 13.5 annual burden hours.

Total Burden Cost (capital/startup): $8,316.

Total Burden Cost (operating/maintaining): $0.

Dated: March 22, 2011.
David Epperson,
Chief Information Officer, National Protection and Programs Directorate, Department of Homeland Security.

[FR Doc. 2011-7595 Filed 3-30-11; 8:45 am]

BILLING CODE P